DEPARTMENT OF HOMELAND SECURITY

Coast Guard

33 CFR Part 165

[CGD01-03-097]

RIN 1625-AA00

Safety Zone; Paerdegat Basin, Belt Parkway Bridge Emergency Repairs, Brooklyn, NY

AGENCY: Coast Guard, DHS.

ACTION: Temporary final rule.

SUMMARY: The Coast Guard is establishing a temporary safety zone 50 yards upstream and downstream of the Belt Parkway Bridge within Paerdegat Basin to aid completion of the Belt Parkway Bridge emergency repairs in Brooklyn, NY. This action is necessary to protect the maritime public from the hazards posed by the emergency repair efforts. The safety zone prohibits immediate entry into this portion of the Paerdegat Basin during the intermittent closure enforcement period.

DATES: This rule is effective from 8 a.m. on February 23, 2004 through 8 p.m. on March 26, 2004.

ADDRESSES: Documents indicated in this preamble are available in the docket are part of docket CGD01-03-097 and are available for inspection or copying at Waterways Oversight Branch, Coast Guard Activities New York, 212 Coast Guard Drive, room 203, Staten Island, NY 10305 between 8 a.m. and 3 p.m., Monday through Friday, except Federal holidays.

FOR FURTHER INFORMATION CONTACT: Lieutenant Commander W. Morton, Waterways Oversight Branch, Coast Guard Activities New York (718) 354-4191.

SUPPLEMENTARY INFORMATION:

Regulatory Information

Pursuant to 5 U.S.C. 553, a notice of proposed rulemaking (NPRM) was not published for this rule. Good cause exists for not publishing an NPRM and for making this regulation effective in less than 30 days after Federal Register publication. It has come to the attention of the Coast Guard that vessels cannot safely pass the barge that is to conduct fendering repairs on the Belt Parkway Bridge. Repairs on the bridge fendering are scheduled to begin by February 2, 2004. Therefore, in order to ensure safe passage of vessels through the Belt Parkway Bridge, this regulation needs to be effective less than 30 days after publication in the Federal Register.

The Belt Parkway Bridge repairs were determined necessary as a result of a recent bridge allision. Waterway closures in the vicinity of and beneath the bridge are needed because repair equipment and construction materials will be in the vicinity of the bridge. Delaying this work for sufficient time to conduct a public notice rulemaking and advanced publication would be contrary to the public interest for safety purposes.

Background and Purpose

This rule is necessary to ensure the continued safe navigation under and through the Belt Parkway Bridge during fender repair operations. While repair operations are underway, a working barge will dramatically limit the ability of vessels to transit the waterway. However, the working barge will move on demand given one-hour notice by way of VHF CH 13.

The Captain of the Port anticipates minimal negative impact on vessel traffic due to this emergency repair work given the above schedule and ability to pass with notice.

Discussion of Rule

This rule establishes a safety zone on all waters of Paerdegat Basin 50-yards upstream and downstream of the Belt Parkway Bridge. The safety zone is in effect between 8 a.m. on February 23, 2004 through March 26, 2004 at 8 p.m. At all times, mariners can safely transit into, and out of, Paerdegat Basin, through the Belt Parkway Bridge, when a minimum of one-hour advance notice is given to the onscene vessel operator on VHF CH 13 between 7 a.m. and 3:30 p.m. Monday through Friday. The area will be opened for vessel transits after the stated working hours and on weekends. Public notifications will be made prior to the effective period via the Local Notice to Mariners, Marine Information and electronic mail Broadcasts, and on the Internet at http://www.harborops.com.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

This finding is based on the following: Mariners utilizing Paerdegat Basin were notified of this closure and the one-hour delay of passage. Mariners held no objection based on the fact that they can safely transit into, and out of, Paerdegat Basin when a minimum of one-hour advance notice is given to the onscene vessel operator between 7 a.m. and 3:30 p.m. Monday through Friday during the brief repair period. Also, the area will be opened for vessel transits after working hours and on weekends. The local maritime community and public will be notified in advance of any work with regard to the closures by way the Local Notice to Mariners, marine information and electronic mail broadcasts; and on the internet at http://www.harborops.com.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to transit or anchor in a portion of the affected waterway during the time this zone is enforced.

This safety zone will not have a significant economic impact on a substantial number of small entities for reasons enumerated under the “Regulatory Evaluation” section.

Assistance for Small Entities

Under section 213(a) of the Small Business Regulatory Enforcement Fairness Act of 1996 (Pub. L. 104-121), we want to assist small entities in understanding this temporary rule so that we can better evaluate its effects on them and participate in the rulemaking. If the rule would affect your small business, organization, or governmental jurisdiction and you have questions concerning its provisions or options for compliance, please contact Lieutenant Commander W. Morton, Waterways Oversight Branch, Coast Guard Activities New York at (718) 354-4191.

Small business may send comments on the actions of Federal employees who enforce, or otherwise determine compliance with, Federal regulations to the Small Business and Agriculture Regulatory Enforcement Ombudsman and the Regional Small Business Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

The Coast Guard analyzed this rule under Executive Order 13132, Federalism, and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Safety Risks. This rule is not an economically significant rule and does not pose an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

The Coast Guard analyzed this rule under Executive Order 13211, Actions Concerning Regulations that Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that, under figure 2-1, (34)(g), of Commandant Instruction M16475.lC, this rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. From 8 a.m. on February 23, 2004, through 8 p.m. on March 26, 2004, add temporary § 165.T01-097 to read as follows:

§ 165.T01-097 Safety Zone: Paerdegat Basin, Belt Parkway Bridge Repairs, Brooklyn, NY.

(a) Location. The following area is a safety zone: All waters of Paerdegat Basin 50-yards upstream and downstream of the Belt Parkway Bridge, Brooklyn, NY.

(b) Effective Period. This section is effective between 8 a.m. on February 23, 2004 and 8 p.m. on March 26, 2004.

(c) Regulations. (1) The general regulations in 33 CFR 165.23 apply.

(2) At all times, mariners can safely transit into, and out of, Paerdegat Basin when a minimum of one-hour advance notice is given to the onscene vessel operator between 7 a.m. and 3:30 p.m. Monday through Friday. The onscene vessel operator may be reach by way of VHF CH 13. The area will be opened for vessel transits after the working hours of 7 a.m. and 3:30 p.m. and on weekends.

(3) All persons and vessels shall comply with the instructions of the Captain of the Port or the designated on-scene patrol personnel. These personnel comprise commissioned, warrant, and petty officers of the Coast Guard. Upon being hailed by a U. S. Coast Guard vessel by siren, radio, flashing light, or other means, the operator of a vessel shall proceed as directed.

Dated: February 23, 2004.
C.E. Bone,
Captain, U.S. Coast Guard, Captain of the Port, New York.

[FR Doc. 04-4648 Filed 3-2-04; 8:45 am]

BILLING CODE 4910-15-P